DEPARTMENT OF LABOR

Employment and Training Administration

[TA-W-73,170]

Supermedia, LLC, Formerly Known as Idearc Media, LLC, a Subsidiary of Supermedia Information Services, LLC, Troy, NY; Notice of Affirmative Determination Regarding Application for Reconsideration

By application dated July 16, 2010, a petitioner requested administrative reconsideration of the negative determination regarding workers' eligibility to apply for Trade Adjustment Assistance (TAA) applicable to workers and former workers of the subject firm. The determination was issued on June 21, 2010. The Notice of Determination was published in the Federal Register on July 7, 2010 (75 FR 39049).

Workers are engaged in employment related to the production of telephone directories. The initial investigation resulted in a negative determination based on the findings that worker separations are not attributable to increased imports of articles like or directly competitive with telephone directories or a shift/acquisition of these articles to a foreign country by the workers' firm.

In the request for reconsideration, the petitioner provided additional information pertaining to a shift in production abroad.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 13th day of August, 2010.
Del Min Amy Chen,
Certifying Officer, Division of Trade Adjustment Assistance.

[FR Doc. 2010-28486 Filed 11-10-10; 8:45 am]

BILLING CODE 4510-FN-P